DEPARTMENT OF COMMERCE

International Trade Administration

[A-570-878]

Saccharin From the People's Republic of China: Final Results of Expedited Second Sunset Review of Antidumping Duty Order

AGENCY: Enforcement and Compliance, International Trade Administration, Department of Commerce.

SUMMARY: As a result of this sunset review, the Department of Commerce (“the Department”) finds that revocation of the antidumping duty (“AD”) order on saccharin from the People's Republic of China (“PRC”) would be likely to lead to continuation or recurrence of dumping as indicated in the “Final Results of Review” section of this notice.

DATES: Effective Date: August 27, 2014.

FOR FURTHER INFORMATION CONTACT: Laurel LaCivita, AD/CVD Operations, Office III, Enforcement and Compliance, International Trade Administration, Department of Commerce, 1401 Constitution Avenue NW., Washington, DC 20230; telephone: (202) 482-4243.

SUPPLEMENTARY INFORMATION:

Background

On May 1, 2014, the Department published the notice of initiation of the second sunset review of the AD order on saccharin from the PRC,¹ pursuant to section 751(c) of the Tariff Act of 1930, as amended (“the Act”).² The Department received a notice of intent to participate from Kinetic Industries, Inc. (“Kinetic”), within the deadline specified in 19 CFR 351.218(d)(1)(i).³ Kinetic claimed interested party status under section 771(9)(C) of the Act, as a domestic producer of saccharin.⁴ We received a complete substantive response from Kinetic within the 30-day deadline specified in 19 CFR 351.218(d)(3)(i).⁵ We did not receive any responses from any respondent interested parties. As a result, pursuant to section 751(c)(3)(B) of the Act and 19 CFR351.218(e)(1)(ii)(C)(2), we conducted an expedited (120-day) sunset review of the order on saccharin from the PRC.

¹ See Notice of Antidumping Duty Order: Saccharin from the People's Republic of China, 68 FR 40906 (July 9, 2003).

² See Initiation of Five-Year (“Sunset”) Review, 79 FR 24673 (May 1, 2014).

³ See letter from Kinetic, “Five-Year (Sunset) (2nd Review) of Antidumping Duty Order on Saccharin From the People's Republic of China: Notice of Intent to Participate of Kinetic Industries, Inc.,” dated May 15, 2014.

⁴ Id. at 2.

⁵ See letter from Kinetic, “Saccharin from the People's Republic of China: Substantive Response to the Notice of Initiation,” dated May 30, 2014.

Scope of the Order

The product covered by this AD order is saccharin. Saccharin is defined as a non-nutritive sweetener used in beverages and foods, personal care products such as toothpaste, table top sweeteners, and animal feeds. It is also used in metalworking fluids. There are four primary chemical compositions of saccharin: (1) Sodium saccharin (American Chemical Society Chemical Abstract Service (“CAS”) Registry 128-44-9); (2) calcium saccharin (CAS Registry 6485-34-3); (3) acid (or insoluble) saccharin (CAS Registry 81-07-2); and (4) research grade saccharin. Most of the U.S.-produced and imported grades of saccharin from the PRC are sodium and calcium saccharin, which are available in granular, powder, spray-dried powder, and liquid forms. The merchandise subject to this order is currently classifiable under subheading 2925.11.00 of the Harmonized Tariff Schedule of the United States (“HTSUS”) and includes all types of saccharin imported under this HTSUS subheading, including research and specialized grades. Although the HTSUS subheading is provided for convenience and customs purposes, the Department's written description of the scope of this order remains dispositive.

Analysis of Comments Received

A complete discussion of all issues raised in this sunset review is provided in the accompanying Issues and Decision Memorandum, which is hereby adopted by this notice.⁶ The issues discussed in the Issues and Decision Memorandum include the likelihood of continuation or recurrence of dumping and the magnitude of the margins of dumping likely to prevail if the order were revoked. The Issues and Decision Memorandum is a public document and is on file electronically via Enforcement and Compliance's Antidumping and Countervailing Duty Centralized Electronic Service System (“IA ACCESS”). Access to IA ACCESS is available to registered users at http://iaaccess.trade.gov and to all parties in the Central Records Unit, room 7046 of the main Department of Commerce building. In addition, a complete version of the Issues and Decision Memorandum can be accessed at http://enforcement.trade.gov/frn/. The signed Issues and Decision Memorandum and the electronic version of the Issues and Decision Memorandum are identical in content.

⁶ See “Issues and Decision Memorandum for the Final Results of the Expedited Second Sunset Review of the Antidumping Duty Order on Saccharin from the People's Republic of China,” from Gary Taverman, Senior Advisor for Antidumping and Countervailing Duty Operations, to Ronald K. Lorentzen, Acting Assistant Secretary for Enforcement and Compliance (“Issues and Decision Memorandum”), dated concurrently with this notice.

Final Results of the Sunset Review

Pursuant to section 752(c)(3) of the Act, we determine that revocation of the AD order on saccharin from the PRC would be likely to lead to continuation or recurrence of dumping at the following weighted-average percentage margins:

Manufacturers/exporters/ producers | Weighted- average margin (percent)
Suzhou Fine Chemical Group Co., Ltd | 291.57
Shanghai Fortune Chemical Co., Ltd | 249.39
Kaifeng Xinhua Fine Chemical Factory | 281.97
PRC-Wide Rate | 329.94

Notification Regarding Administrative Protective Orders

This notice also serves as the only reminder to parties subject to administrative protective orders (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing the results and notice in accordance with sections 751(c), 752(c), and 777(i)(1) of the Act.

Dated: August 20, 2014.
Ronald K. Lorentzen,
Acting Assistant Secretary for Enforcement and Compliance.

[FR Doc. 2014-20395 Filed 8-26-14; 8:45 am]

BILLING CODE 3510-DS-P